DEPARTMENT OF TRANSPORTATION

National Highway Traffic Safety Administration

[Docket No. NHTSA-2013-0065; Notice 2]

PACCAR Incorporated, Grant of Petition for Decision of Inconsequential Noncompliance

AGENCY: National Highway Traffic Safety Administration (NHTSA), Department of Transportation (DOT).

ACTION: Grant of Petition.

SUMMARY: PACCAR Incorporated (PACCAR) has determined that certain model year (MY) 2013 Kenworth and Peterbilt brand chassis cab incomplete vehicles do not fully comply with paragraph S3.1.3 of Federal Motor Vehicle Safety Standard (FMVSS) No. 102, Transmission Shift Position Sequence, Starter Interlock, and Transmission Braking Effect. PACCAR has filed an appropriate revised report dated March 1, 2013, pursuant to 49 CFR part 573, Defect and Noncompliance Responsibility and Reports.

ADDRESSES: For further information on this decision contact Vince Williams, Office of Vehicle Safety Compliance, the National Highway Traffic Safety Administration (NHTSA), telephone (202) 366-2319, facsimile (202) 366-5930.

SUPPLEMENTARY INFORMATION:

I. PACCAR's Petition: Pursuant to 49 U.S.C. 30118(d) and 30120(h) and the rule implementing those provisions at 49 CFR part 556, PACCAR has petitioned for an exemption from the notification and remedy requirements of 49 U.S.C. Chapter 301 on the basis that this noncompliance is inconsequential to motor vehicle safety.

Notice of receipt of the petition was published, with a 30-day public comment period, on September 26, 2013 in the Federal Register (78 FR 59419). No comments were received. To view the petition and all supporting documents log onto the Federal Docket Management System (FDMS) Web site at: http://www.regulations.gov/. Then follow the online search instructions to locate docket number “NHTSA-2013-0065.”

II. Chassis Cabs Involved: Affected are approximately 452 Kenworth MY 2013 model K270 and model K370 chassis cabs that were manufactured between March 29, 2012 and November 2, 2012, and MY 2013 Peterbilt model 210 and model 220 chassis cabs that were manufactured between March 21, 2012 and November 6, 2012. Hereafter these vehicles are referred to as trucks.

III. Noncompliance: PACCAR explains that the noncompliance is that the starter interlock in the affected automatic transmission trucks does not conform to paragraph S3.1.3 of FMVSS No. 102 because the starter interlock is based on a system that differs from the system specified in the standard. Although the starter interlock on these trucks prevents the transmission from propelling the vehicle and, therefore, is effective in preventing truck “roll away,” the engineering of the starter interlock is not consistent with the specification prescribed in paragraph S3.1.3 of FMVSS No. 102.

IV. Summary of PACCAR'S Analyses: PACCAR stated its belief that the subject noncompliance is inconsequential to motor vehicle safety for the following reasons:

S3.1.3 of FMVSS No. 102 provides, in pertinent part: “. . . the engine starter shall be inoperative when the transmission shift position is in a forward or reverse drive position.” Assuming that the term “transmission shift position” refers to the position of the gear selector (as opposed to the position of the transmission itself), the subject trucks do not comply with this provision as written. That is because the starter interlock system in these vehicles, which is an electronic system that was originally used in PACCAR's European trucks, differs from the system specified in S3.1.3. PACCAR's starter interlock system effectively achieves the objectives of S3.1.3 by precluding the possibility of a powered rollaway or lurching when the vehicle is started. However, the manner in which the system functions is not consistent with the design that is prescribed in the standard.

The engine in the subject trucks can be started with the gear selector in any position, thus creating what appears to be a technical noncompliance with S3.1.3. However, even if the engine is started when the gear selector indicates a forward or reverse gear, the transmission itself will remain in neutral, and the message “Gearshift Inhibited” will be prominently displayed to the driver. The transmission can be shifted into a forward or reverse gear only after the gear selector is first moved into the neutral position and then moved back into gear while the service brake is applied. At that point, the “Gearshift Inhibited” message will be replaced by a “Transmission Warning” message, which will remain illuminated until the engine is turned off and then restarted.

As NHTSA explained in a 2005 Final Rule that amended FMVSS No. 102 to allow idle stop technology, “The purpose of [S3.1.3] is to prevent injuries and death from the unexpected motion of a vehicle when the driver starts the vehicle with the transmission inadvertently in a forward or reverse gear.” 70 FR 38040 (July 1, 2005). The agency also referred to “S3.1.3's underlying purpose of ensuring that the vehicle will not lurch forward or backward during driver activation of the engine starter. . . .” ld. at 38041. As described above, the starter interlock system in the subject vehicles completely prevents any possibility of “unexpected motion” or vehicle “lurching” because the transmission remains neutralized, even if the engine is started with the gear selector indicating a forward or reverse gear. Thus, the PACCAR system, which has been used successfully for more than three years in PACCAR's European vehicles, fully satisfies the purposes of S3.1.3 and achieves the same level of safety as that provision. Moreover, PACCAR is unaware of any consumer complaints, accidents, or injuries related to this design.

PACCAR has additionally informed NHTSA that it has corrected the noncompliance so that all future production vehicles will comply with FMVSS No. 102.

In summation, PACCAR believes that the described noncompliance of the subject vehicles is inconsequential to motor vehicle safety, and that its petition, to exempt from providing recall notification of noncompliance as required by 49 U.S.C. 30118 and remedying the recall noncompliance as required by 49 U.S.C. 30120 should be granted.

V. NHTSA Decision: The affected incomplete vehicles were manufactured as chassis cabs by PACCAR under the Kenworth and Peterbilt makes. Based on the brochures on the Kenworth and Peterbilt make Web sites, the subject chassis cabs are typically completed by final stage manufacturers as class 6 and 7 cargo-carrying medium/heavy trucks. The brochures also show the transmission gear selector adjacent to the driver's seated position, easily visible to the driver. These vehicles will most likely be operated by professional drivers who would be less likely to forget to place the transmission control in “neutral” when stopping the engine. In addition, even if the driver starts the vehicle with the gear selector in drive or reverse, PACCAR reported that the transmission will remain in neutral until the driver applies the service brake, shifts the gear selector to neutral and then selects the desired gear.

Subsequent to filing the subject petition PACCAR notified NHTSA that it has initiated a field repair campaign under which owners of the affected vehicles could have a starter interlock jumper harness installed free of charge to remedy the subject noncompliance. On 6/11/13, a Field Repair Notice was sent to notify dealerships of the repair and of the vehicles within the affected population. PACCAR also stated that it was unaware of any instance in which a customer eligible for the field repair has experienced unintended movement.

In consideration of the foregoing, NHTSA has decided that PACCAR has met its burden of persuasion that the FMVSS No. 102 noncompliance is inconsequential to motor vehicle safety. Accordingly, PACCAR's petition is hereby granted and PACCAR is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the chassis cabs that PACCAR no longer controlled at the time it determined that the noncompliance existed. However, the granting of this petition does not relieve vehicle distributors and dealers of the prohibitions on the sale, offer for sale, or introduction or delivery for introduction into interstate commerce of the noncompliant trucks under their control after PACCAR notified them that the subject noncompliance existed.

Authority: (49 U.S.C. 30118, 30120: delegations of authority at 49 CFR 1.95 and 501.8)

Jeffrey Giuseppe,
Acting Director, Office of Vehicle Safety Compliance.

[FR Doc. 2014-06922 Filed 3-27-14; 8:45 am]

BILLING CODE 4910-59-P